DEPARTMENT OF THE INTERIOR

National Park Service

National Register of Historic Places; Notification of Pending Nominations

Nominations for the following properties being considered for listing in the National Register were received by the National Park Service before January 13, 2001. Pursuant to section 60.13 of 36 CFR part 60 written comments concerning the significance of these properties under the National Register criteria for evaluation may be forwarded to the National Register, National Park Service, 1849 C St., NW, NC400, Washington, DC 20240. Written comments should be submitted by February 6, 2001.

Carol D. Shull,
Keeper of the National Register.

ARKANSAS

Van Buren County

Patterson, Walter, Filling Station, (Arkansas Highway History and Architecture MPS) AR 65, bet. Griggs and Court Sts., Clinton, 01000074

CALIFORNIA

Los Angeles County

Nuetra Office Building, 2379 Glendale Building, Los Angeles, 01000075

Orange County

Fullerton First Methodist Episcopal Church, 117 N. Pomona Ave., Fullerton, 01000076

Sacramento County

Galarneaux, Mary Haley, House, 922-924 T. St., Sacramento, 01000077

FLORIDA

Palm Beach County

College Park Historic District, Roughly bounded by Maryland Dr., N. Federal Hwy., 19th Ave. N., and N. Dixie Hwy., Lake Worth, 01000078

GEORGIA

Fulton County

Westinghouse Electric Company Building, 426 Marietta St., NW, Atlanta, 01000080

Habersham County

Loudermilk Boarding House, 271 Foreacre St., Cornelia, 01000079

ILLINOIS

Clay County

Meyer, Pearl and Bess, House, 233 E. 2nd St., Flora, 01000084

Cook County

Chicago and North Western Railroad Depot, 6088 North Northwest Hwy., Chicago, 01000081

Olympia Fields Country Club,2800 Country Club Dr., Olympia Fields, 01000082

Du Page County

Immanuel Evangelical Church, 302 S. Grant St., Hinsdale, 01000085

Richland County

Hopkinson, Ambrose, House, 122 W. Elm St., Olney, 01000083

MASSACHUSETTS

Middlesex County

Bell Rock Memorial Park, Bounded by Main, Wigglesworth, Meridan, and Ellis Sts., Malden, 01000086

Plymouth County

Bridgewater Iron Works, Vic. of High St., Bridgewater, 01000087

Suffolk County

Brighton Center Historic District, Academy Hill R., Chestnut Hill Ave., Dighton, Elko, Henshaw, Leicester, Market, Washington, and Winship Sts., Boston, 01000088

Chelsea Garden Cemetery, Shawmut St., Chelsea, 01000089

SOUTH DAKOTA

Butte County

Lincoln School, (Schools in South Dakota MPS) 706 Jackson, Belle Fourche, 01000098

Clay County

Gunderson House, 24 S. Harvard, Vermillion, 01000092

Codington County

Fowler, C.E. and Bertha, House, 316 SE First Ave., Watertown, 01000096

Day County

Roslyn Auditorium, (Federal Relief Construction in South Dakota MPS) 510 Main, Roslyn, 01000097

Hughes County

Rowe House, 1118 E. Capitol, Pierre, 01000095

Lincoln County

Kennedy, C.B., Mansion, 903 N. Dakota St., Canton, 01000093

Meade County

Minneapolis Brewing Company Beer Warehouse, SD 212, Faith, 01000100

Moody County

South Dakota Dept. of Trans. Br. No. 51-124-136, (Historic Bridges in South Dakota MPS) Second St. over the Big Sioux R., Egan, 01000090

Pennington County

Swander Bakery Building, 301 12th St., Rapid City, 01000099

Union County

United Brethren Church, 31141 476th Ave., West Akron, 01000091

Yankton County

Burns House, 816 Pine St., Yankton, 01000094

TENNESSEE

Humphreys County

Fort Hill and Butterfield, Archibald D., House, (Archeological Resources of the American Civil War in Tennessee MPS) 201 Fort Hill Dr., Waverly, 01000101

TEXAS

Bee County

Bee County Courthouse, 105 W. Corpus Christi St., Beeville, 01000105

Dallas County

Turtle Creek Pump Station, 3630 Harry Hines Blvd., Dallas, 01000103

Fort Bend County

Moore, John M. and Lottie D., House, 406 S. Fifth St., Richmond, 01000104

Tarrant County

Marine Commercial Historic District, Roughly defined by N. Main St., bet. N. Side Dr. and N. 14th St., Fort Worth, 01000102

WISCONSIN

Crawford County

Tainter Cave, (Wisconsin Indian Rock Art Sites MPS) Address Restricted, Clayton, 01000106

Manitowoc County

Saint Luke's Church Complex, 1800-1816 Jefferson St., Two Rivers, 01000107

A request for REMOVAL for procedural error has been made for the following resource:

MISSOURI

Clay County

Clardy Heights Historic District (Liberty, Clay County, Missouri MPS AD) 716, 734, and 758 W. Liberty Dr. Liberty, 00001609

A request for removal has been made for the following resource:

WASHINGTON

Kittitas County

Kinkade, J.W., Farmstead Off US 7B Ellensburg vicinity, 82004257

[FR Doc. 01-1742 Filed 1-19-01; 8:45 am]

BILLING CODE 4310-70-P